POSTAL SERVICE

Sunshine Act Meetings

TIME AND DATE: Friday December 5, 2025, at 9:00 a.m. EST.

PLACE: Washington, DC, at U.S. Postal Service Headquarters, 475 L'Enfant Plaza, SW

STATUS: Closed.

MATTERS CONSIDERED: On December 5, 2025, the members of the Board of Governors of the United States Postal Service voted unanimously to hold and to close to public observation a special meeting in Washington, DC. The Board determined that no earlier public notice was practicable. The Board considered the below matters.

1. Compensation and Governance Matters.

2. Administrative Matters.

General Counsel Certification: The General Counsel of the United States Postal Service has certified that the meeting may be closed under the Government in the Sunshine Act, 5 U.S.C. 552b.

CONTACT PERSON FOR MORE INFORMATION: Lucy C. Trout, Secretary of the Board of Governors, U.S. Postal Service, 475 L'Enfant Plaza SW, Washington, DC 20260-1000. Telephone: (202) 268-4800.

Lucy C. Trout,
Secretary.

[FR Doc. 2025-22447 Filed 12-8-25; 4:15 pm]

BILLING CODE 7710-12-P